DEPARTMENT OF COMMERCE

National Oceanic and Atmospheric Administration

50 CFR Part 679

[Docket No. 170817779-8161-02]

RIN 0648-XG444

Fisheries of the Exclusive Economic Zone Off Alaska; Reallocation of Pollock in the Bering Sea Subarea

AGENCY: National Marine Fisheries Service (NMFS), National Oceanic and Atmospheric Administration (NOAA), Commerce.

ACTION: Temporary rule; reallocation.

SUMMARY: NMFS is reallocating projected unused amounts of Bering Sea subarea pollock from the incidental catch allowance to the directed fisheries. This action is necessary to allow the 2018 total allowable catch (TAC) of pollock to be harvested.

DATES: Effective August 21, 2018, until 2400 hrs, A.l.t., December 31, 2018.

FOR FURTHER INFORMATION CONTACT: Steve Whitney, 907-586-7228.

SUPPLEMENTARY INFORMATION: NMFS manages the groundfish fishery in the BSAI exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2018 pollock incidental catch allowance in the Bering Sea subarea was established as 47,888 metric tons (mt) by the 2018 and 2019 final harvest specifications for groundfish in the BSAI (83 FR 8365, February 27, 2018), and as adjusted by reallocations (83 FR 9235, March 5, 2018), in accordance with § 679.20(a)(5)(i)(A)(1) and the American Fisheries Act (AFA) (Pub. L. 105-277, Division C, Title II).

As of August 16, 2018, the Administrator, Alaska Region, NMFS, has determined that approximately 19,700 (mt) of pollock remain in the incidental catch allowance. Based on projected harvest rates of other groundfish species and the expected incidental catch of pollock in those fisheries, the Regional Administrator has determined that 2,500 mt of pollock specified in the incidental catch allowance will not be necessary as incidental catch. Therefore, NMFS is apportioning the projected unused amount, 2,500 mt, of pollock from the incidental catch allowance to the directed fishing allowances established pursuant to § 679.20(a)(5)(i)(A). Pursuant to the pollock allocation requirements set forth in § 679.20(a)(5)(i), this transfer will increase the allocation to catcher vessels harvesting pollock for processing by the inshore component by 1,250 mt, to catcher/processors and catcher vessels harvesting pollock for processing by catcher/processors in the offshore component by 1,000 mt, and to catcher vessels harvesting pollock for processing by motherships in the offshore component by 250 mt. Pursuant to § 679.20(a)(5)(i)(A)(4)(ii), 8.5 percent of the 915 mt allocated to catcher/processors in the offshore component, 85 mt, will be available for harvest only by eligible catcher vessels delivering to listed catcher/processors. Pursuant to § 679.20(a)(5)(i)(A)(4)(iii), an additional 5 mt or 0.5 percent of the catcher/processor sector allocation of pollock will be available to unlisted AFA catcher/processors.

Pursuant to § 679.20(a)(5)(i)(A), Table 5 of the 2018 and 2019 final harvest specifications for groundfish in the BSAI are revised as follows:

Table 5—Final 2018 Allocations of Pollock TACs to the Directed Pollock Fisheries and to the CDQ Directed Fishing Allowances (DFA) ¹
[Amounts are in metric tons]
Area and sector | 2018 Allocations | 2018 A season ¹: A season DFA | 2018 A season ¹: SCA harvest limit ² | 2018 B season ¹: B season DFA
Bering Sea subarea TAC ¹ | 1,378,441 | n/a | n/a | n/a
CDQ DFA | 138,334 | 62,250 | 38,734 | 76,084
ICA ¹ | 45,388 | n/a | n/a | n/a
Total Bering Sea non-CDQ DFA | 1,194,719 | 537,624 | 334,521 | 657,095
AFA Inshore | 597,359 | 268,812 | 167,261 | 328,548
AFA Catcher/Processors ³ | 477,888 | 215,049 | 133,809 | 262,838
Catch by C/Ps | 437,267 | 196,770 | n/a | 240,497
Catch by CVs ³ | 40,620 | 18,279 | n/a | 22,341
Unlisted C/P Limit ⁴ | 2,389 | 1,075 | n/a | 1,314
AFA Motherships | 119,472 | 53,762 | 33,452 | 65,710
Excessive Harvesting Limit ⁵ | 209,076 | n/a | n/a | n/a
Excessive Processing Limit ⁶ | 358,416 | n/a | n/a | n/a
Aleutian Islands subarea ABC | 40,788 | n/a | n/a | n/a
Aleutian Islands subarea TAC ¹ | 4,900 | n/a | n/a | n/a
CDQ DFA | 0 | 0 | n/a | 0
ICA | 2,400 | 1,200 | n/a | 1,200
Aleut Corporation | 2,500 | 2,500 | n/a | 0
Area harvest limit ⁷ | n/a | n/a | n/a | n/a
541 | 12,236 | n/a | n/a | n/a
542 | 6,118 | n/a | n/a | n/a
543 | 2,039 | n/a | n/a | n/a
Bogoslof District ICA ⁸ | 450 | n/a | n/a | n/a
¹ Pursuant to § 679.20(a)(5)(i)(A), the Bering Sea subarea pollock, after subtracting the CDQ DFA (10 percent) and the ICA (45,388 mt), is allocated as a DFA as follows: Inshore sector—50 percent, catcher/processor sector (C/P)—40 percent, and mothership sector—10 percent. In the Bering Sea subarea, 45 percent of the DFA is allocated to the A season (January 20-June 10) and 55 percent of the DFA is allocated to the B season (June 10-November 1). Pursuant to § 679.20(a)(5)(iii)(B)(2)(i) through (iii), the annual Aleutian Islands pollock TAC, after subtracting first for the CDQ directed fishing allowance (10 percent) and second for the ICA (2,400 mt), is allocated to the Aleut Corporation for a pollock directed fishery. In the Aleutian Islands subarea, the A season is allocated up to 40 percent of the ABC and the B season is allocated the remainder of the pollock directed fishery.
² In the Bering Sea subarea, pursuant to § 679.20(a)(5)(i)(C), no more than 28 percent of each sector's annual DFA may be taken from the SCA before noon, April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(i)(B), the Bogoslof District is closed to directed fishing for pollock. The amounts specified are for ICA only and are not apportioned by season or sector.
Note: Seasonal or sector apportionments may not total precisely due to rounding.

Classification

This action responds to the best available information recently obtained from the fishery. The Assistant Administrator for Fisheries, NOAA, (AA) finds good cause to waive the requirement to provide prior notice and opportunity for public comment pursuant to the authority set forth at 5 U.S.C. 553(b)(B) as such a requirement is impracticable and contrary to the public interest. This requirement is impracticable and contrary to the public interest as it would prevent NMFS from responding to the most recent fisheries data in a timely fashion and would delay the reallocation of projected unused amounts of Bering Sea subarea pollock from the incidental catch allowance to the directed fisheries. NMFS was unable to publish a notice providing time for public comment because the most recent, relevant data only became available as of August 16, 2018.

The AA also finds good cause to waive the 30-day delay in the effective date of this action under 5 U.S.C. 553(d)(3). This finding is based upon the reasons provided above for waiver of prior notice and opportunity for public comment.

This action is taken under 50 CFR 679.20, and is exempt from review under Executive Order 12866.

Authority: 16 U.S.C. 1801 et seq.

Dated: August 21, 2018.
Margo B. Schulze-Haugen,
Acting Director, Office of Sustainable Fisheries, National Marine Fisheries Service.

[FR Doc. 2018-18348 Filed 8-21-18; 4:15 pm]

BILLING CODE 3510-22-P